DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period May 21, 2007 Through June 20, 2007

Firm | Address | Date petition accepted | Product
R&I Enterprises dba: Compulogic Design Co | 233 Paredes Line Rd., Brownville, TX 78521 | 5/24/2007 | Metal forming and mold dies material.
Shelby Industries, LLC | 175 McDaniel Road, Shelbyville, KY 40065 | 5/24/2007 | Winches, couplers, jacks and accessory items such as trailer balls/chains/locks, etc. made of steel. Primary manufacturing processes are stamping, welding, zinc plating or painting and mainly manual assembly.
Mach Mold Incorporated | 360 Urbandale, Benton Harbor, MI 49022 | 5/24/2007 | Injection type mold.
Heppner Molds, Inc | 1420 E. Third Ave., Post Falls, Idaho 83854 | 5/25/2007 | Molded plastic products.
New Monarch Machine Tools, Inc | 641 NYS Rt. 13 South Cortland, NY 13045-0749 | 5/25/2007 | Manufacture of CNC machining centers and parts.
J.R. Higgins Associates, LLC | 898 Main Street, Action, Massachusetts 01720 | 6/19/2007 | Manufacture customized high quality machined and fabricated products and a line of specialty vehicle signs.
JRI, Inc. (Wire Processing Division) | 31280 La Baya Dr., Westlake Village, CA 91362 | 6/19/2007 | Lead and wire harness manufacturing.
Electropac Company, Inc | 252 Willow Street, Manchester, NH 03103 | 6/20/2007 | Single and double-sided printed circuit boards.
Creative Marketing Concepts, Corp | 96 Audubon Road, Wakefield, Massachusetts | 6/19/2007 | Vertical tanning machines.
R&M Apparel, Inc | 721 Donoughe Street, Gallitzin, PA 16641 | 6/19/2007 | Manufactures womens', misses' and girls' outerwear.
Enterprise Tool and Die, Inc | 4270 White Street, SW, Grandville, MI 49418 | 6/19/2007 | Progressive stamping dies and transfer dies for the forming of sheet metal.
Marshall Metal Products, Inc | 1006 E. Michigan Avenue, Marshall, MI 49068 | 6/19/2007 | Small to medium size metal stampings.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: June 20, 2007.
William P. Kittredge,
Program Officer for TAA.

[FR Doc. E7-12329 Filed 6-25-07; 8:45 am]

BILLING CODE 3510-24-P